DEPARTMENT OF ENERGY

Proposed Subsequent Arrangement

AGENCY: Office of Nonproliferation and Arms Control, Department of Energy.

ACTION: Proposed subsequent arrangement.

SUMMARY: This document is being issued under the authority of section 131a. of the Atomic Energy Act of 1954, as amended. The Department is providing notice of a proposed subsequent arrangement under the Agreement for Cooperation in the Peaceful Uses of Nuclear Energy Between the European Atomic Energy Community (EURATOM) and the United States of America and the Agreement for Cooperation Between the Government of the United States of America and the Government of the Kingdom of Norway Concerning Peaceful Uses of Nuclear Energy.

DATES: This subsequent arrangement will take effect no sooner than September 7, 2017.

FOR FURTHER INFORMATION CONTACT: Mr. Richard Goorevich, Office of Nonproliferation and Arms Control, National Nuclear Security Administration, Department of Energy. Telephone: 202-586-0589 or email: Richard.Goorevich@nnsa.doe.gov.

SUPPLEMENTARY INFORMATION: This subsequent arrangement concerns a request for a four-year extension (April 2017 to April 2021) of the current programmatic approval for retransfer of U.S. obligated irradiated fuel rods between Studsvik Nuclear AB, Sweden, and Institutt for Energiteknikk, IFE facilities Halden and Kjeller, Norway. The rods are being transferred for irradiation service, various tests, and examinations, and will be returned to Studsvik Nuclear, Sweden, for further test and final disposal. The total shipping amounts will be the same as allowed under the current approval—a maximum of 30,000 grams uranium, 400 grams U-235 and 400 grams plutonium in all shipments, combined, with a maximum of 100 grams of plutonium per shipment.

The current extension was approved in January 2014 and published in the Federal Register on January 16, 2014 (79 FR 2824) and is set to expire April 2017. If approved, the new extension, for four years, will extend to April 2021. Additional transactions are scheduled to occur between April 2017 and April 2021 and will be subject to the U.S.-EURATOM Agreement for Cooperation in the Peaceful Uses of Nuclear Energy.

In accordance with section 131a. of the Atomic Energy Act of 1954, as amended, it has been determined that this subsequent arrangement concerning the retransfer of nuclear material of the United States origin will not be inimical to the common defense and security of the United States of America.

Dated: May 23, 2017.
For the Department of Energy.
David Huizenga,
Acting Deputy Administrator, Defense Nuclear Nonproliferation.

[FR Doc. 2017-17851 Filed 8-22-17; 8:45 am]

BILLING CODE 6450-01-P